DEPARTMENT OF TRANSPORTATION

Federal Aviation Administration

14 CFR Part 39

[Docket No. FAA-2012-0177; Directorate Identifier 2009-SW-59-AD]

RIN 2120-AA64

Airworthiness Directives; Eurocopter France Helicopters

AGENCY: Federal Aviation Administration (FAA), DOT.

ACTION: Notice of proposed rulemaking (NPRM).

SUMMARY: We propose to adopt a new airworthiness directive (AD) for Eurocopter France Model EC155B and EC155B1 helicopters with a VIP 4-seat bench. This proposed AD is prompted by the determination that the load strength of the seat attachment hardware of the seat installation does not meet certification specifications. The proposed actions are intended to prevent overloading of the seat structure at the attachment point during a hard landing or emergency landing, which could result in the VIP 4-seat bench detaching from the floor and subsequent injury to the seat occupants.

DATES: We must receive comments on this proposed AD by April 30, 2012.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket: You may examine the AD docket on the Internet at http://www.regulations.gov or in person at the Docket Operations Office between 9 a.m. and 5 p.m., Monday through Friday, except Federal holidays. The AD docket contains this proposed AD, the economic evaluation, any comments received, and other information. The street address for the Docket Operations Office (telephone 800-647-5527) is in the ADDRESSES section. Comments will be available in the AD docket shortly after receipt.

For service information identified in this proposed AD, contact American Eurocopter Corporation, 2701 N. Forum Drive, Grand Prairie, TX 75052, telephone (972) 641-0000 or (800) 232-0323, fax (972) 641-3775, or at http://www.eurocopter.com/techpub. You may review a copy of the referenced service information at the FAA, Office of the Regional Counsel, Southwest Region, 2601 Meacham Blvd., Room 663, Fort Worth, Texas 76137.

FOR FURTHER INFORMATION CONTACT: Gary Roach, Aerospace Engineer, FAA, Regulations and Policy Group, 2601 Meacham Blvd., Fort Worth, Texas 76137; telephone: (817) 222-5130; fax: (817) 222-5961, email gary.b.roach@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

The European Aviation Safety Agency (EASA), which is the Technical Agent for the Member States of the European Union, has issued AD No. 2009-0078R1, dated June 30, 2009 (AD No. 2009-0078R1), which supersedes Emergency AD No. 2009-0078-E, dated April 1, 2009 (AD No. 2009-0078-E), to correct an unsafe condition for the Eurocopter model EC155B and EC155B1, all serial numbers up to and including 6892, fitted with a VIP 4-seat bench, part number (P/N) 365V85-0045-01 or 365V85-0046-01. EASA advises that Eurocopter identified an unsafe condition while performing customization work that involved the installation of the VIP 4-seat bench. During the installation work, Eurocopter determined that the load strength of the seat attachment hardware of the seat installation did not meet certification specifications. EASA advises that this condition, if not corrected, would lead to overloading of the seat structure at the attachment point during an emergency landing, which could result in the seat bench detaching from the floor fitting rails and potentially resulting in injury to the seat occupants.

FAA's Determination

These helicopters have been approved by the aviation authority of France and are approved for operation in the United States. Pursuant to our bilateral agreement with France, EASA, its technical representative, has notified us of the unsafe condition described in their AD. We are proposing this AD because we evaluated all information provided by EASA and determined the unsafe condition exists and is likely to exist or develop on other products of these same type designs.

Related Service Information

Eurocopter has issued Emergency Alert Service Bulletin (ASB) No. 04A009, Revision 1, dated June 24, 2009 (Emergency ASB No. 04A009R1) which revises Emergency Alert Service Bulletin No. 04A009, Revision 0, dated March 30, 2009 (Emergency ASB No. 04A009R0). Emergency ASB No. 04A009R0 specified revising the RFM to restrict the VIP 4-seat bench to a maximum of 3 occupants. It also specified converting the VIP 4-seat bench into a 3-seat bench at “the next flight-related inspection scheduled at 15 hours or 7 days,” whichever occurred first. EASA classified Emergency ASB No. 04A009R0 as mandatory to ensure the continued airworthiness of these helicopters and issued EASA Emergency AD No. 2009-0078-E.

Eurocopter has now developed optional terminating action. Eurocopter issued ASB No. 25-095, dated June 25, 2009 (ASB No. 25-095) that specifies installing new shims between the attachment rails and the cabin floor at the seat position to strengthen the attachment security of the seat using a rear VIP bench seat retrofit kit, P/N 365V08-0079-0171, or front VIP bench seat retrofit kit, P/N 365V08-0079-0271. Eurocopter also issued Emergency ASB No. 04A009R1, which retained the requirements of Emergency ASB No. 04A009R0, and also specified that helicopters equipped with the bench modification kits in accordance with ASB No. 25-095 had met the requirements of Emergency ASB No. 04A009R1. In response, EASA issued AD No. 2009-0078R1, which retained the requirements of Emergency AD No. 2009-0078-E, and added the optional terminating action of modifying the seat configuration to strengthen the attachment security of the seat using the bench modification kit. EASA also stated that after installing the bench modification kit, you could remove the RFM limitation of 3 occupants and reconfigure the 3-seat bench to a 4-seat bench.

Proposed AD Requirements

This proposed AD would require the following actions:

• Before further flight, revise the Limitations section of the RFM by inserting the following statement into the Limitations section: “The VIP 4-seat bench, P/N 365V85-0045-01 or 365V85-0046-01, is limited to 3 passengers.” The change to the Limitations section of the RFM may be made in pen and ink, or by inserting a copy of the AD into the Limitations section of the RFM.

• Within the next 15 hours time-in-service (TIS), convert the VIP 4-seat bench into a 3-seat configuration.

• Instead of revising the Limitations section of the RFM and converting the VIP 4-seat bench into a 3-seat configuration, you may modify the rear VIP 4-seat bench by installing the shims contained in kit P/N 365V08-0079-0171 (which corresponds to modification 365V08-0079-01), or the front VIP 4-seat bench by installing the shims contained in kit P/N 365V08-0079-0271 (which corresponds to modification 365V08-0079-02). This action constitutes terminating action for the requirements of this proposed AD.

Differences Between This Proposed AD and the EASA AD

This proposed AD specifies that the conversion of the VIP 4-seat bench to a 3-seat bench must occur within 15 hours TIS, while the EASA AD specifies that compliance must occur within 15 hours TIS or 7 days, whichever occurs first. This proposed AD uses different P/Ns for the bench modification kits, because AD No. 2009-0078R1 and ASB No. 25-095 use different P/Ns for the same part, and this proposed AD uses the P/N in ASB No. 25-095.

Costs of Compliance

We estimate that this proposed AD would affect 4 helicopters of U.S. registry. We estimate that it would take a negligible amount of work hours per helicopter to amend the Limitation section of the applicable RFM. We estimate it would take approximately 0.25 hour to convert the VIP 4-seat bench to a 3-seat bench at an average labor rate of $85 per work hour. Estimated labor costs for the conversion are approximately $21.25 per helicopter, and approximately $85 for the fleet. Based on these figures, we estimate the total cost impact of the proposed AD on U.S. operators to be $85, assuming that no helicopter has been previously modified with the rear VIP bench seat retrofit kit P/N 365V08-0079-0171 and the front VIP bench seat retrofit kit P/N 365V08-0079-0271.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new Airworthiness Directive (AD):

EUROCOPTER FRANCE: Docket No. FAA-2012-0177; Directorate Identifier 2009-SW-59-AD.

(a) Applicability

This AD applies to Model EC155B and EC155B1 helicopters, all serial numbers up to and including 6892, with a VIP 4-seat bench, part number (P/N) 365V85-0045-01 or 365V85-0046-01, installed; certificated in any category.

(b) Unsafe Condition

This AD defines the unsafe condition as possible overloading of the seat structure at the attachment point during a hard landing or emergency landing. This condition could result in the bench seat detaching from the floor and subsequent injury to the seat occupants.

(c) Compliance

You are responsible for performing each action required by this AD within the specified compliance time unless accomplished previously.

(d) Required Actions

(i) Before further flight, revise the Limitations section of the Rotorcraft Flight Manual (RFM) by inserting the following statement into the Limitations section: “The VIP 4-seat bench, P/N 365V85-0045-01 or 365V85-0046-01 is limited to 3 passengers.” You may make the change to the Limitations section of the RFM in pen and ink, or by inserting a copy of this AD into the Limitations section of the RFM.

(ii) Within the next 15 hours time-in-service, convert the VIP 4-seat bench into the 3-seat configuration in accordance with paragraphs 2.B.1 through 2.B.3 and Figure 1 of Eurocopter Emergency Alert Service Bulletin No. 04A009, Revision 1, dated June 24, 2009.

(iii) Instead of complying with paragraphs (d)(i) and (d)(ii) of this AD, you may modify the rear VIP 4-seat bench by installing the shims contained in rear VIP bench seat retrofit kit, P/N 365V08-0079-0171 (which corresponds to modification 365V08-0079-01), or the front VIP 4-seat bench by installing the shims contained in front VIP bench seat retrofit kit, P/N 365V08-0079-0271 (which corresponds to modification 365V08-0079-02), in accordance with the Operational Procedure, paragraph 2.B. of the Eurocopter Alert Service Bulletin No. 25-095, dated June 25, 2009. Modifying the VIP 4-seat bench constitutes terminating action for the requirements of this AD.

(e) Alternative Methods of Compliance (AMOC)

(1) The Manager, Safety Management Group, FAA, may approve AMOCs for this AD. Send your proposal to: Gary Roach, Aerospace Engineer, FAA, Regulations and Policy Group, 2601 Meacham Blvd., Fort Worth, Texas 76137; telephone: (817) 222-5130; fax: (817) 222-5961, email gary.b.roach@faa.gov.

(2) For operations conducted under a Part 119 operating certificate or under Part 91, Subpart K, we suggest that you notify your principal inspector, or lacking a principal inspector, the manager of the local flight standards district office or certificate holding district office before operating any aircraft complying with this AD through an AMOC.

(f) Additional Information

The subject of this AD is addressed in European Aviation Safety Agency AD No. 2009-0078R1, dated June 30, 2009.

(g) Subject

Joint Aircraft Service Component (JASC) Code: 2500: Cabin Equipment/Furnishings.

Issued in Fort Worth, Texas, on February 10, 2012.
Lance T. Gant,
Acting Manager, Rotorcraft Directorate, Aircraft Certification Service.

[FR Doc. 2012-4606 Filed 2-27-12; 8:45 am]

BILLING CODE 4910-13-P